DEPARTMENT OF STATE

[Public Notice No. 3414]

Advisory Committee On International Economic Policy Notice of Committee Renewal

Renewal of Advisory Committee. The Department of State has renewed the Charter of the Advisory Committee on International Economic Policy. The Committee serves in a solely advisory capacity providing information and advice to the Secretary of State on the effective integration of economic interests into overall foreign policy. The Committee's advice and information assists in appraising the role and limits of international economic institutions, advancing American commercial interests in a competitive global economy and formulating U.S. policy, positions, proposals and strategies for multilateral and bilateral negotiations.

This committee includes representatives of American organizations and institutions having an interest in international economic policy, including representatives of American business, labor unions, public interest groups, and trade and professional associations. The committee meets at least annually to advise the Department on range of international economic policies and issues.

For further information, please call: Carol Thompson, EB/PAPD, U.S. Department of State, at (202) 647-1808.

Carol E. Thompson,
Acting, Office of Policy Analysis and Public Diplomacy.

[FR Doc. 00-26226 Filed 10-11-00; 8:45 am]

BILLING CODE 4710-07-P